DEPARTMENT OF JUSTICE

Notice of Lodging of Proposed First Amendment of Consent Decree Under the Clean Air Act

On August 15, 2018, the Department of Justice lodged a proposed First Amendment of Consent Decree (“First Amendment”) with the United States District Court for the District of Nevada in the lawsuit entitled United States v. Nevada Cement Company, Inc., Civil Action No. 3:17-cv-302.

This case involves claims for alleged violations of the Prevention of Significant Deterioration program of the Clean Air Act and related state law requirements against the Nevada Cement Company at its Fernley, Nevada, Portland cement facility. The original Consent Decree resolving the dispute included injunctive relief for installation of control technology to reduce emissions of nitrogen oxides (NOX), civil penalties, and mitigation of past excess NOX emissions. The proposed First Amendment, if approved by the Court, would change the requirements in the original Consent Decree from Selective Non-Catalytic Reduction control technology to Selective Catalytic Reduction control technology for NOx emissions, and would require greater reductions in NOX, yielding a net NOX emission reduction over the life of the Consent Decree as compared to the original Consent Decree.

The publication of this notice opens a period for public comment on the First Amendment. Comments should be addressed to the Assistant Attorney General, Environment and Natural Resources Division, and should refer to United States v. Nevada Cement, Inc., D.J. Ref. No. 90-5-2-1-10458. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the First Amendment may be examined and downloaded at this Justice Department website: https://www.justice.gov/enrd/consent-decrees. We will provide a paper copy of the First Amendment upon written request and payment of reproduction costs. Please mail your request and payment to: Consent Decree Library, U.S. DOJ—ENRD, P.O. Box 7611, Washington, DC 20044-7611.

Please enclose a check or money order for $3.25 (25 cents per page reproduction cost) payable to the United States Treasury.

Henry Friedman,
Assistant Section Chief, Environmental Enforcement Section, Environment and Natural Resources Division.

[FR Doc. 2018-18172 Filed 8-22-18; 8:45 am]

BILLING CODE 4410-15-P